ENVIRONMENTAL PROTECTION AGENCY

[EPA-HQ-OAR-2007-1182; FRL-10234-01-OAR]

Proposed Information Collection Request; Comment Request; Emissions Certification and Compliance Requirements for Nonroad Compression-Ignition Engines and On-Highway Heavy Duty Engines (Revision)

AGENCY: Environmental Protection Agency (EPA).

ACTION: Notice.

SUMMARY: The Environmental Protection Agency is planning to submit an information collection requests (ICRs) “Emissions Certification and Compliance Requirements for Nonroad Compression-ignition Engines and On-highway Heavy Duty Engines (Revision),” (EPA ICR No. 1684.20, OMB Control No. 2060-0287) to the Office of Management and Budget (OMB) for review and approval in accordance with the Paperwork Reduction Act (44 U.S.C. 3501 et seq.). Before doing so, EPA is soliciting public comments on specific aspects of the proposed information collections as described below. This is a proposed extension of the ICR, which is currently approved through March 31, 2023. An Agency may not conduct or sponsor and a person is not required to respond to a collection of information unless it displays a currently valid OMB control number.

DATES: Comments must be submitted on or before March 28, 2023.

ADDRESSES: Submit your comments, referencing the Docket ID Number EPA-HQ-OAR-2007-1182, online using www.regulations.gov (our preferred method), by email to a-and-r-Docket@epa.gov or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Ms. Nydia Y. Reyes-Morales, U.S. Environmental Protection Agency, 1200 Pennsylvania Avenue NW, Mail Code 6405A, Washington, DC 20460; telephone number: 202-343-9264; email address: reyes-morales.nydia@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW, Washington, DC. The telephone number for the Docket Center is 202-566-1744. For additional information about EPA's public docket, visit http://www.epa.gov/dockets.

Pursuant to section 3506(c)(2)(A) of the Paperwork Reduction Act, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: For this ICR, EPA is seeking a revision to an existing package with a three-year extension.

Title II of the Clean Air Act, (42 U.S.C. 7521 et seq.; CAA), charges the Environmental Protection Agency (EPA) with issuing certificates of conformity for those engines and vehicles that comply with applicable emission requirements. Such a certificate must be issued before those products may be legally introduced into commerce. To apply for a certificate of conformity, manufacturers are required to submit descriptions of their planned production, detailed descriptions of emission control systems and test data. This information is organized by “families,” groups of engines/vehicles expected to have similar emission characteristics.

The emission values achieved during certification testing may also be used in the Averaging, Banking, and Trading (ABT) Program. The program allows engine manufacturers to bank credits for engine families that emit below the standard and use the credits to certify engine families that emit above the standard. They may also trade banked credits with other manufacturers. Participation in the ABT program is voluntary.

The CAA also mandates EPA to verify that manufacturers have successfully translated their certified prototypes into mass produced engines; and that these engines comply with emission standards throughout their useful lives. EPA verifies this through `Compliance Programs' which include Production Line Testing (PLT), In-use Testing and Selective Enforcement Audits, (SEAs). Not all programs apply to all industries included in this ICR. PLT, which only applies to marine engines, is a self-audit program that allows engine manufacturers to monitor their products' emissions profile with statistical certainty and minimize the cost of correcting errors through early detection. In-use testing allows manufacturers and EPA to verify compliance with emission standards throughout an engine family's useful life. Through SEAs, EPA verifies that test data submitted by engine manufacturers is reliable and testing is performed according to EPA regulations.

Under the Transition Program for Equipment Manufacturers (TPEM), NRCI equipment manufacturers were able to delay compliance with Tier 4 standards for up to seven years as long as they comply with certain limitations. The program, which has ended, sought to ease the impact of new emission standards on equipment manufacturers as they often need to redesign their products to accommodate changes in engine design. Although TPEM is no longer available, EPA keeping reporting forms for the duration of this collection.

There are varying recordkeeping and labeling requirements under all programs.

The information requested is collected by the Compliance Division (CD), Office of Transportation and Air Quality, Office of Air and Radiation, EPA. CD uses this information to issue certificates of conformity and ensure that manufacturers comply with applicable regulations and the CAA. Some HD data is also used by the National Highway Traffic Safety Administration (NHTSA) to implement their programs under 49 U.S.C. 32902. EPA's and NHTSA's Office of Enforcement and Compliance Assurance and the Department of Justice may use the information for enforcement purposes. Most of the information is collected in electronic format and stored in CD's databases.

Manufacturers may assert a claim of confidentiality over information provided to EPA. Confidentiality is granted in accordance with the Freedom of Information Act and EPA regulations at 40 CFR part 2. Non-confidential information may be disclosed on OTAQ's website or upon request under the Freedom of Information Act to trade associations, environmental groups, and the public.

Form Numbers: Most of the information in this request is collected electronically through EPA's Engines and Vehicles Compliance Information System (EV-CIS). EV-CIS uses webforms to collect most certification and some compliance data. Data related some programs is collected through Excel-based templates that are then uploaded into different components of EV-CIS. Table 2 lists the forms currently used in this collection in addition to EPA's database for engine and vehicle certification (EV-CIS). Some forms, such as the notification and application forms related to TPEM and TPEM hardship relief will be discontinued as those programs have expired. EPA is working on amendments to the PLT Report for Marine CI forms and the Replacement Engine Exemption Report to reflect recent regulatory changes.

Table 2—Forms Related to ICR 1684.20
Form | No.
HD/NR Engine Manufacturer Annual Production Report | 5900-90
AB&T Report for Nonroad Compression Ignition Engines | 5900-125
AB&T Report for Heavy-duty On-highway Engines | 5900-134
AB&T Report for Locomotives | 5900-274
AB&T Report for Marine Compression-ignition Engines | 5900-125
PLT Report for Marine CI CumSum | 5900-297
PLT Report for Marine CI Non-CumSum | 5900-298
PLT Report for Locomotives | 5900-135
Locomotive Installation Audit Report | 5900-273
In-use Testing for Locomotives | 5900-93
In-use Testing for Non-Road Engines | 5900-93
Replacement Engine Exemption Report | 6900-5414
TPEM Equipment Manufacturer Notification | 5900-242
TPEM Equipment Manufacturer Report | 5900-240
TPEM Engine Manufacturer Report | 5900-241
TPEM Importers Notification | In process
TPEM Importers Annual Report | In process
TPEM Bond Worksheet | 5900-239
TPEM Hardship Relief Application Questionnaire | 5900-465
TPEM Hardship Relief Prescreening Questionnaire | 6900-02
DF Carry-across Comparison Sheet | TBD
§ 1065 Lab Audit Checklist | TBD

Respondents/affected entities: Entities potentially affected by this action are manufacturers of engines, equipment, and vehicles in the nonroad compression ignition (CI), marine CI, locomotives and medium- and heavy-duty on-highway industries. There are some requirements for marine CI vessel owners and operators and owners of HD truck fleets.

Respondent's obligation to respond: Regulated manufacturers must respond to this collection if they wish to sell their products in the U.S., as prescribed by section 206(a) of the CAA (42 U.S.C. 7521). Participation in some programs such as ABT is voluntary, but once a manufacturer has elected to participate, it must submit the required information.

Estimated number of respondents: 2,823 (total).

Frequency of response: Quarterly, Annually, On Occasion, depending on the type of response.

Total estimated burden: 167,333 hours per year. Burden is defined at 5 CFR 1320.03(b).

Total estimated cost: $31,192,402 (per year), includes an estimated $18,976,585 annualized capital or maintenance and operational costs.

Changes in the Estimates: EPA expects that the total estimated respondent burden will remain fairly consistent with the burden currently identified in the OMB Inventory of Approved ICR Burdens. Expected changes to the estimates come from the end of TPEM for all power categories (decrease) and the DF validation exercise (increase). However, EPA is evaluating information that may lead to a change in the estimates.

Byron Bunker,
Director, Compliance Division, Office of Transportation and Air Quality, Office of Air and Radiation.

[FR Doc. 2023-01631 Filed 1-26-23; 8:45 am]

BILLING CODE 6560-50-P